DEPARTMENT OF HOUSING AND URBAN DEVELOPMENT

[Docket No. FR-4557-N-18]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of the publication in the Federal Register, the landholding agency, and the property number.

For more information regarding particular properties identified in this Notice (i.e., acreage, floor plan, existing sanitary facilities, exact street address), providers should contact the appropriate landholding agencies at the following addresses: Energy: Mr. Tom Knox, Department of Energy, Office of Contract and Resource Management, MA-53, Washington, DC 20585; (202) 586-8715; GSA: Mr. Brian K. Polly, Assistant Commissioner, General Services Administration, Office of Property Disposal, 18th and F Streets, NW., Washington, DC 20405; (202) 501-0052; Navy: Mr. Charles C. Cocks, Department of the Navy, Director, Real Estate Policy Division, Naval Facilities Engineering Command, Washington Navy Yard, 1322 Patterson Ave., SE., Suite 1000, Washington, DC 20374-5065; (202) 685-9200; (These are not toll-free numbers).

Dated: April 27, 2000.
Fred Karnas, Jr.,
Deputy Assistant Secretary for Special Needs Assistance Programs.

Title V, Federal Surplus Property Program Federal Register Report for 5/5/00

Suitable/Available Properties

Building (by State)

California

Bldg. 301

Naval Support Activity

Monterey Co: CA 93943-

Landholding Agency: Navy

Property Number: 77200020041

Status: Excess

Comment: 18,608 sq. ft., presence of asbestos/lead paint, needs major rehab

Idaho

Bldg. CF603

Idaho Natl Eng & Env Lab

Scoville Co: Butte ID 83415-

Landholding Agency: Energy

Property Number: 41200020004

Status: Excess

Comment: 15,005 sq. ft. cinder block, presence of asbestos/lead paint, major rehab, off-site use only

Maryland

De LaSalle Bldg.

4900 LaSalle Road

Avondale Co: Prince George MD 20782-

Landholding Agency: GSA

Property Number: 54200020007

Status: Excess

Comment: 130,000 sq. ft., multi-story on 17.79 acres, extensive rehab required, presence of asbestos/lead paint/pigeon infestation, subj. to easements, eligible for Natl Register

GSA Number: 4-G-MD-565A

Missouri

Natl Weather Svc Ofc

4100 Mexico Road

St. Peters Co: St. Charles MO 00000-

Landholding Agency: GSA

Property Number: 54200020015

Status: Excess

Comment: 4774 sq. ft., presence of asbestos, good condition, most recent use—office

GSA Number: 7-C-MO-641

Land (by State)

North Carolina

6.45 acres

Portion of McKinney Lake

Fish Hatchery

Millstone Church Road

Hoffman Co: Richmond NC 28347-

Landholding Agency: GSA

Property Number: 54200020011

Status: Excess

Comment: 6.45 acres, most recent use—outdoor horticulture classes

GSA Number: 4-GR-NC-570

North Dakota

Grand Forks Waterline

Formerly S. Mickelson Water

Complex

Grand Forks Co: ND 00000-

Landholding Agency: GSA

Property Number: 54200020014

Status: Excess

Comment: 10.84 acres of improved fee land w/bldg., 527.22 acres of easement for waterline, 1.70 acres of licenses

GSA Number: 7-D-ND-499

Suitable/Unavailable Properties

Buildings (by State)

North Carolina

Vehicle Maint. Facility

310 New Bern Ave.

Raleigh Co: Wake NC 27601-

Landholding Agency: GSA

Property Number: 54200020012

Status: Excess

Comment: 10,455 sq. ft., most recent use—maintenance garage

GSA Number: NC076AB

Land (by State)

Virginia

25 acres

Wildlife Refuge

Fishermans Island Co: Northhampton VA 00000-

Landholding Agency: GSA

Property Number: 54200020010

Status: Excess

Comment: unimproved land

GSA Number: 4-N-VA-720A

New Jersey

Parcel A-1, Bldg. 228

Raritan Center

2890 Woodbridge Avenue

Edison Co: NJ 08837-

Landholding Agency: GSA

Property Number: 54200020009

Status: Excess

Reasons: Landlocked; extensive deterioration

GSA Number: 1-Z-NJ-440-O

New Mexico

Bldg. 3, TA-8

Los Alamos National Lab

Los Alamos Co: NM 87545-

Property Number: 41200020001

Status: Unutilized

Reasons: Secured area; extensive deterioration

Bldg. 51, TA-9

Los Alamos National Lab

Los Alamos Co: NM 87545-

Landolding Agency: Energy

Property Number 41200020002

Status: Unutilized

Reason: Secured area

Bldg. 30, TA-14

Los Alamos National Lab

Los Alamos Co: NM 87545-

Landolding Agency: Energy

Property Number: 41200020003

Status: Unutilized

Reason: Secured area

North Carolina

Bldg. 2067

Marine Corps Air Station

Cherry Point

Havelock Co: Craven NC 28533-

Landholding Agency: Navy

Property Number: 77200020036

Status: Excess

Reasons: Secured area; extensive deterioration

Bldg. 3146

Marine Corps Air Station

Cherry Point

Havelock Co: Craven NC 28533-

Landholding Agency: Navy

Property Number: 77200020037

Status: Excess

Reason: Secured area; extensive deterioration

Virginia

CEP-12

Naval Station Norfolk

Norfolk Co: VA 23511-

Landholding Agency: Navy

Property Number 77200020042

Status: Excess

Reason: Extensive deterioration

CEP-62

Naval Station Norfolk

Norfolk Co: VA 23511-

Landholding Agency: Navy

Property Number: 77200020043

Status: Excess

Reason: Extensive deterioration

CEP-206

Naval Station Norfolk

Norfolk Co: VA 23511

Landholding Agency: Navy

Property Number: 77200020044

Status: Excess

Reason: Extensive deterioration

Washington

Bldg. 398

Naval Station

Bremerton Co: WA 98314-5000

Landholding Agency: Navy

Property Number: 77200020038

Status: Unutilized

Reasons: Within 2000 ft. of flammable or explosive material; secured area

Bldg. 976

Naval Station

Bremerton Co: WA 98314-5020

Landholding Agency: Navy

Property Number: 77200020039

Reasons: Within 2000 ft. of flammable or explosive material; secured area; extensive deterioration

8 Bldgs.

Naval Station

902, 903, 905, 907, 909-911, 915

Bremerton Co: WA 98314-5020

Landholding Agency: Navy

Property Number: 77200020040

Status: Unutilized

Reasons: Within 2000 ft. of flammable or explosive material; secured area

Land (by State)

Missouri

Borrow Pit Area

North of Smart Field

St. Charles Co: MO 00000-

Landholding Agency: GSA

Property Number: 54200020008

Status: Excess

Reason: Floodway

GSA Number: 7-GR-MO-0423

[FR Doc. 00-10963 Filed 5-4-00; 8:45 am]

BILLING CODE 4210-29-M